FEDERAL COMMUNICATIONS COMMISSION

[CG Docket Nos. 10-51 and 03-123; DA 13-1814]

Request for Comment on Petition Filed by Purple Communications, Inc. Regarding the Provision of Both Inbound and Outbound Functionality for Internet Protocol Captioned Telephone Services

AGENCY: Federal Communications Commission.

ACTION: Notice.

SUMMARY: In this document, the Commission, via the Consumer and Governmental Affairs Bureau (Bureau) seeks comment on Purple Communications, Inc. (Purple) petition requesting expedited clarification or partial reconsideration, or, alternatively, a waiver of one aspect of the Commission's VRS Reform Order regarding the use of Internet Protocol Captioned Telephone Service (IP CTS) through Web or wireless technologies. The Bureau seeks comment on Purple's assertion that the lack of the requested clarification would force Purple and other IP CTS providers to cease the provision of IP CTS using Web and wireless applications.

DATES: Comments are due September 26, 2013 and reply comments are due October 7, 2013.

ADDRESSES: You may submit comments, identified by CG Docket Nos. 10-51 and 03-123, by any of the following methods:

Electronic Filers: Comments may be filed electronically using the Internet by accessing the Commission's Electronic Comment Filing System (ECFS), through the Commission's Web site http://fjallfoss.fcc.gov/ecfs2/. Filers should follow the instructions provided on the Web site for submitting comments. For ECFS filers, in completing the transmittal screen, filers should include their full name, U.S. Postal service mailing address, and CG Docket Nos. 10-51 and 03-123.

• Paper filers: Parties who choose to file by paper must file an original and one copy of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• All hand-delivered or messenger-delivered paper filings for the Commission's Secretary must be delivered to FCC Headquarters at 445 12th Street SW., Room TW-A325, Washington, DC 20554. All hand deliveries must be held together with rubber bands or fasteners. Any envelopes must be disposed of before entering the building.

• Commercial Mail sent by overnight mail (other than U.S. Postal Service Express Mail and Priority Mail) must be sent to 9300 East Hampton Drive, Capitol Heights, MD 20743.

• U.S. Postal Service first-class, Express, and Priority mail should be addressed to 445 12th Street SW., Washington, DC 20554.

In addition, parties must serve one copy of each pleading with the Commission's duplicating contractor, Best Copy and Printing, Inc., 445 12th Street SW., Room CY-B402, Washington, DC 20554, or via email to fcc@bcpiweb.com. For detailed instructions for submitting comments and additional information on the rulemaking process, see the SUPPLEMENTARY INFORMATION section of this document.

FOR FURTHER INFORMATION CONTACT: Gregory Hlibok, Consumer and Governmental Affairs Bureau, Disability Rights Office, (202) 559-5158 (voice/videophone), email: Gregory.Hlibok@fcc.gov.

SUPPLEMENTARY INFORMATION: This is a summary of the Bureau's Public Notice, document DA 13-1814, released on August 27, 2013. The full text of document DA 13-1814, and any subsequently filed documents in this matter will be available for public inspection and copying via ECFS, and during regular business hours at the FCC Reference Information Center, Portals II, 445 12th Street SW., Room CY-A257, Washington, DC 20554. It also may be purchased from the Commission's duplicating contractor, Best Copy and Printing, Inc., Portals II, 445 12th Street SW., Room CY-B402, Washington, DC 20554, telephone: (800) 378-3160, fax: (202) 488-5563, or Internet: www.bcpiweb.com. Document DA 13-1814 can also be downloaded in Word or Portable Document Format (PDF) at http://www.fcc.gov/encyclopedia/telecommunications-relay-services-trs. To request materials in accessible formats for people with disabilities (Braille, large print, electronic files, audio format), send an email to fcc504@fcc.gov or call the Consumer and Governmental Affairs Bureau at 202-418-0530 (voice), 202-418-0432 (TTY).

Synopsis

1. On July 8, 2013, Purple filed a petition requesting expedited clarification or partial reconsideration, or, alternatively, a waiver of one aspect of the VRS Reform Order, published at 78 FR 40582, July 5, 2013, regarding the use of Internet Protocol Captioned Telephone Service (IP CTS) through Web or wireless technologies. Purple Communications, Inc., Petition of Purple Communications, Inc. for Expedited Clarification or Partial Reconsideration or, Alternatively, a Waiver, CG Docket Nos. 03-123 and 10-51 (Purple Petition).

2. Specifically, Purple requests that the Commission clarify that footnote 122 of the VRS Reform Order, stating that “calls that are completed using a technology that does not provide both inbound and outbound functionality are not compensable from the TRS Fund,” does not apply when users access IP CTS through Web and wireless services. Purple Petition at 1. Purple asserts that this footnote, if left intact, would force Purple and other IP CTS providers to cease the provision of IP CTS using Web and wireless applications because “there is no technology currently available that allows inbound IP CTS over Web or wireless technologies to be captioned without some intermediary step.'' Purple Petition at 1 and 2.

Federal Communications Commission.
Gregory Hlibok,
Chief, Disability Rights Office, Consumer and Governmental Affairs Bureau.

[FR Doc. 2013-22122 Filed 9-10-13; 8:45 am]

BILLING CODE 6712-01-P